DEPARTMENT OF THE INTERIOR

National Park Service

[NPS-WASO-NAGPRA-NPS0026188; PPWOCRADN0-PCU00RP14.R50000]

Notice of Inventory Completion: The University of Oregon Museum of Natural and Cultural History, Eugene, OR

AGENCY: National Park Service, Interior.

ACTION: Notice.

SUMMARY: The University of Oregon Museum of Natural and Cultural History has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of Oregon Museum of Natural and Cultural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of Oregon Museum of Natural and Cultural History, at the address in this notice by October 10, 2018.

ADDRESSES: Dr. Pamela Endzweig, Director of Collections, University of Oregon Museum of Natural and Cultural History, 1224 University of Oregon, Eugene, OR 97403-1224, telephone (541) 346-5120, email endzweig@uoregon.edu.

SUPPLEMENTARY INFORMATION: Notice is here given in accordance with the Native American Graves Protection and Repatriation Act (NAGPRA), 25 U.S.C. 3003, of the completion of an inventory of human remains and associated funerary objects under the control of the University of Oregon Museum of Natural and Cultural History, Eugene, OR. The human remains and associated funerary objects were removed from Lake County, OR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by University of Oregon Museum of Natural and Cultural History professional staff in consultation with representatives of the Burns Paiute Tribe (previously listed as the Burns Paiute Tribe of the Burns Paiute Indian Colony of Oregon); Confederated Tribes of the Warm Springs Reservation of Oregon; and Klamath Tribes (hereafter referred to as “The Tribes”).

History and Description of the Remains

At an unknown date, human remains representing, at minimum, one individual were removed from a location near Chewaucan Marsh, in Lake County, OR, during excavations for irrigation ditches. In 1969, the human remains were donated to the University of Oregon Museum of Natural and Cultural History by a private party. The human remains consist of an adult male (museum catalog #11-518). No known individual was identified. No associated funerary objects are present.

At an unknown date, human remains representing, at minimum, two individuals were removed from an unknown site probably located near the Chewaucan River, in Lake County, OR, as noted on the box in which they were stored, and were donated to the University of Oregon Museum of Natural and Cultural History by a private party. The human remains consist of two adults of indeterminate sex (no museum catalog number assigned). No known individuals were identified. No associated funerary objects are present.

At an unknown date, human remains representing, at minimum, one individual were removed from an unknown site, possibly from the vicinity of Paisley, in Lake County, OR, according to the University of Oregon Museum of Natural and Cultural History record book. The human remains were donated to the University of Oregon Museum of Natural and Cultural History by a private party. The human remains consist of an adult male (museum catalog #11-424). No known individual was identified. No associated funerary objects are present.

In November 1932, human remains representing, at minimum, three individuals were removed from an unknown site near Abert Rim, in Lake County, OR. The human remains were encountered during highway construction by the Oregon State Highway Commission. Subsequently, the human remains were transferred to the University of Oregon Museum of Natural and Cultural History. The human remains consist of one adult female, an adult of indeterminate sex (both under museum catalog #11-7), and an adult male (museum catalog #11-8). No known individuals were identified. No associated funerary objects are present.

In June 1934, human remains representing, at minimum, three individuals were removed from sites near Abert and Summer Lakes, in Lake County, OR. The human remains were possibly removed by University of Oregon archeologists, and consist of two adult males (museum catalog #s 11-33 and 11-35) and an adolescent of indeterminate sex (museum catalog #11-34). No known individuals were identified. No associated funerary objects are present.

In 1936, human remains representing, at minimum, one individual were removed from a location probably near Paisley, in Lake County, OR, during highway construction by the Oregon State Highway Commission. Subsequently, the human remains were transferred to at the University of Oregon Museum of Natural and Cultural History. Although a camel skull was also included in the accession (acc. # 200F), no information exists to associate it with the human remains. The human remains consist of an adult female (museum catalog #11-49). No known individual was identified. No associated funerary objects are present.

In 1938, human remains representing, at minimum, three individuals were removed from a site located near Highway 31 and Summer Lake, in Lake County, OR, during road construction. The human remains were then donated to the University of Oregon Museum of Natural and Cultural History by a private party. The human remains consist of one adult female and two adult males (recorded together under museum catalog #11-86). No known individuals were identified. No associated funerary objects are present.

In 1939, human remains representing, at minimum, four individuals were removed from sites on ZX Ranch, in Lake County, OR, during legally authorized excavations by University of Oregon archeologists. According to field notes on file, three of the individuals were recovered from looters' back-dirt. These three sets of human remains consist of one adult female and two adult males (museum catalog #s 11-102 and 11-103). A fourth set of human remains was found beside a road to 5-Mile-Butte according to the field catalog. These human remains consist of a single adult female (museum catalog #11-101). No known individuals were identified. No associated funerary objects are present.

At an unknown date, human remains representing, at minimum, one individual were removed from near Silver Lake, in Lake County, OR. The human remains were subsequently donated to the University of Oregon Museum of Natural and Cultural History by a private party in 1940. The human remains consist of a single adult of indeterminate sex (museum catalog #11-136). No known individual was identified. The four associated funerary objects are four fossilized animal bones.

In 1947, human remains representing, at minimum, one individual were removed from a site located near the mouth of Silver Creek at Silver Lake, in Lake County, OR, during legally authorized excavations by University of Oregon archeologists. The human remains were partially exposed at the time of removal according to field records. The human remains consist of a single adult male (museum catalog #11-213). No known individual was identified. No associated funerary objects are present.

Historical documents, ethnographic sources, and oral history indicate that Northern Paiute people have occupied the south-central Oregon area since pre-contact times. The human remains from the above-mentioned locations are determined to be Native American based on archeological context and/or skeletal evidence and Northern Paiute based on provenience. The Northern Paiute are represented today by The Tribes.

Determinations Made by the University of Oregon Museum of Natural and Cultural History

Officials of the University of Oregon Museum of Natural and Cultural History have determined that:

• Pursuant to 25 U.S.C. 3001(9), the human remains described in this notice represent the physical remains of 20 individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Dr. Pamela Endzweig, Director of Collections, University of Oregon Museum of Natural and Cultural History, 1224 University of Oregon, Eugene, OR 97403-1224, telephone (541) 346-5120, email endzweig@uoregon.edu, by October 10, 2018. After that date, if no additional requestors have come forward, transfer of control of the human remains and associated funerary objects to The Tribes may proceed.

The University of Oregon Museum of Natural and Cultural History is responsible for notifying The Tribes that this notice has been published.

Dated: August 6, 2018.
Melanie O'Brien,
Manager, National NAGPRA Program.

[FR Doc. 2018-19539 Filed 9-7-18; 8:45 am]

BILLING CODE 4312-52-P